DEPARTMENT OF HOMELAND SECURITY

Coast Guard

33 CFR Part 165

[Docket No. USCG-2012-0087]

Security Zone; Protection of Military Cargo, Captain of the Port Zone Puget Sound, WA

AGENCY: Coast Guard, DHS.

ACTION: Notice of enforcement of regulation.

SUMMARY: The Coast Guard will enforce the Sitcum Waterway Security Zone in Commencement Bay, Tacoma, Washington from 6 a.m. on February 1, 2013, through 11:59 p.m. on February 7, 2013, unless cancelled sooner by the Captain of the Port. This action is necessary for the security of Department of Defense assets and military cargo in the navigable waters of Puget Sound and adjacent waters. Entry into this zone is prohibited unless otherwise exempted or excluded under 33 CFR 165.1321 or unless authorized by the Captain of the Port or his Designated Representative.

DATES: The regulations in 33 CFR 165.1321 will be enforced for the security zone described in paragraph (c)(2) of that section from 6 a.m. on February 1, 2013, through 11:59 p.m. on February 7, 2013, unless cancelled sooner by the Captain of the Port.

FOR FURTHER INFORMATION CONTACT: If you have questions on this notice, call or email Ensign Nathaniel P. Clinger, Sector Puget Sound Waterways Management Division, Coast Guard; telephone 206-217-6045, email SectorPugetSoundWWM@uscg.mil.

SUPPLEMENTARY INFORMATION: The Coast Guard will activate and enforce the Sitcum Waterway Security Zone set forth in 33 CFR 165.1321(c)(2) from 6 a.m. on February 1, 2013, through 11:59 p.m. on February 7, 2013, unless cancelled sooner by the Captain of the Port or Designated Representative. In 2004, the Coast Guard established regulations for the security of Department of Defense assets and military cargo in the navigable waters of Puget Sound to and adjacent waters. (See 69 FR 52600, Aug. 27, 2004). When subject to enforcement, this regulation prohibits persons and vessels from the immediate vicinity of these facilities during military cargo loading and unloading operations. The security zone will also provide for the regulation of vessel traffic in the vicinity of military cargo loading facilities in the navigable waters of the United States. In addition, the regulation establishes requirements for all vessels to obtain permission of the COTP or Designated Representative, including the Vessel Traffic Service (VTS), to enter, move within, or exit these security zones when they are enforced. Entry into this zone is prohibited unless otherwise exempted or excluded under 33 CFR 165.1321 or unless authorized by the Captain of the Port or Designated Representative.

This notice is issued under authority of 33 CFR 165.1321 and 5 U.S.C. 552 (a). In addition to this notice in the Federal Register, the Coast Guard will provide the maritime community with notification of this enforcement period via marine information broadcasts and on-scene assets. If the COTP determines that the regulated area need not be enforced for the full duration stated in this notice, a Broadcast Notice to Mariners may be used to grant general permission to enter the regulated area.

Dated: January 23, 2013.
S.J. Ferguson,
Captain, U.S. Coast Guard, Captain of the Port, Puget Sound.

[FR Doc. 2013-02133 Filed 1-31-13; 8:45 am]

BILLING CODE 9110-04-P